Proclamation 9117 of April 30, 2014

National Day of Prayer, 2014

By the President of the United States of America

A Proclamation

One of our Nation's great strengths is the freedom we hold dear, including the freedom to exercise our faiths freely. For many Americans, prayer is an essential act of worship and a daily discipline.

Today and every day, prayers will be said for comfort for those who mourn, healing for those who are sick, protection for those who are in harm's way, and strength for those who lead. Today and every day, forgiveness and reconciliation will be sought through prayer. Across our country, Americans give thanks for our many blessings, including the freedom to pray as our consciences dictate.

As we give thanks for our liberties, we must never forget those around the world, including Americans, who are being held or persecuted because of their convictions. Let us remember all prisoners of conscience today, whatever their faiths or beliefs and wherever they are held. Let us continue to take every action within our power to secure their release. And let us carry forward our Nation's tradition of religious liberty, which protects Americans' rights to pray and to practice our faiths as we see fit.

The Congress, by Public Law 100-307, as amended, has called on the President to issue each year a proclamation designating the first Thursday in May as a “National Day of Prayer.”

NOW, THEREFORE, I, BARACK OBAMA, President of the United States of America, by virtue of the authority vested in me by the Constitution and the laws of the United States, do hereby proclaim May 1, 2014, as a National Day of Prayer. I invite the citizens of our Nation to give thanks, in accordance with their own faiths and consciences, for our many freedoms and blessings, and I join all people of faith in asking for God's continued guidance, mercy, and protection as we seek a more just world.

IN WITNESS WHEREOF, I have hereunto set my hand this thirtieth day of April, in the year of our Lord two thousand fourteen, and of the Independence of the United States of America the two hundred and thirty-eighth.

[FR Doc. 2014-10460

Filed 5-5-14; 8:45 am]

Billing code 3295-F4